DEPARTMENT OF LABOR

Employment and Training Administration

[TA-W-75,043]

SpectraWatt, Inc. Including On-Site Leased Workers From Kelly Services Hopewell Junction, NY; Notice of Revised Determination on Reconsideration

On June 6, 2011, the Department of Labor issued an Affirmative Determination Regarding Application for Reconsideration applicable to workers and former workers of SpectraWatt, Inc., Hopewell Junction, New York (subject firm). Workers at the subject firm were engaged in employment related to the production of solar cells for their application in solar panels. The worker group includes on-site leased workers from Kelly Services.

During the reconsideration investigation, the Department carefully reviewed previously submitted material and analyzed aggregate industry data and industry trends, including U.S. aggregate imports of like or directly competitive articles and finished articles containing components like or directly competitive to those produced by the subject firm.

The analysis revealed that, during the period of investigation, imports of articles like or directly competitive with solar cells produced by the subject firm have increased, and that the increased imports of solar cells (or like or directly competitive articles) contributed importantly to the worker group separations and sales/production declines at the subject firm.

The analysis also revealed that, over the relevant time period, solar modules installed in the U.S. included a lower percentage of U.S. produced solar cells and that the decline contributed importantly to the worker group separations and sales/production declines at the subject firm.

Conclusion

After careful review of the additional facts obtained during the reconsideration investigation, I determine that workers of SpectraWatt, Inc., Hopewell Junction, New York, meet the worker group certification criteria under Section 222(a) of the Act, 19 U.S.C. § 2272(a). In accordance with Section 223 of the Act, 19 U.S.C. 2273, I make the following certification:

All workers of SpectraWatt, Inc., including on-site leased workers from Kelly Services, Hopewell Junction, New York, who became totally or partially separated from employment on or after December 22, 2009, through two years from the date of this revised certification, and all workers in the group threatened with total or partial separation from employment on date of certification through two years from the date of certification, are eligible to apply for adjustment assistance under Chapter 2 of Title II of the Trade Act of 1974, as amended.

Signed in Washington, DC, this 28th day of September 2011.
Del Min Amy Chen,
Certifying Officer, Office of Trade Adjustment Assistance.

[FR Doc. 2011-25718 Filed 10-4-11; 8:45 am]

BILLING CODE 4510-FN-P